COMMITTEE FOR PURCHASE FROM PEOPLE WHO ARE BLIND OR SEVERELY DISABLED

Procurement List Proposed Additions and Deletion

AGENCY: Committee for Purchase From People Who Are Blind or Severely Disabled.

ACTION: Proposed additions to and deletion from Procurement List.

SUMMARY: The Committee is proposing to add to the Procurement List products and services to be furnished by nonprofit agencies employing persons who are blind or have other severe disabilities, and to delete a product previously furnished by such agencies.

Comments Must Be Received on or Before: September 21, 2009.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 6660-00-920-3722—Rain Gauge, 4”

NPA: Productive Alternatives, Inc., Fergus Falls, MN

Contracting Activity: Dept of Commerce, Office of the Secretary/NOAA, Kansas, MO.

Coverage: C-List for the requirements of the Dept of Commerce, Office of the Secretary/NOAA.

NSN: 6545-00-NSH-0032—Combat Lifesavers Kit

NPA: ServiceSource, Inc., Alexandria, VA

Contracting Activity: Dept of the Navy, Marine Corps Air Facility/Contracting Office.

Coverage: C-List for the requirements of the Dept of the Navy, Marine Corps Air Facility/Contracting Office.

Services

Service Type/Location: Base Supply Center, USDA, Headquarters, 1400 Independence Ave, SW., Washington, DC.

NPA: Winston-Salem Industries for the Blind, Winston-Salem, NC.

Contracting Activity: Dept of Agriculture—USDA, Office of Operations, Washington, DC.

Service Type/Location: Janitorial and Grounds Maintenance Service, USDA-ARS, 2000 E. Allen Rd, Tucson, AZ.

NPA: Beacon Group SW, Inc., Tucson, AZ.

Contracting Activity: Dept Of Agriculture—USDA, Agricultural Research Service, PWA Area Procurement Office, Albany, CA.

Service Type/Locations: Custodial Services, Bradford Facility, 5000 Bradford Drive, Huntsville, AL.

Huntsville Warehouse, 151 Electronics Blvd and 351 Electronics Blvd, Huntsville, AL.

Wynn Facility, 106 Wynn Drive, Huntsville, AL.

Cheverly Warehouse, 6340 Columbia Park Road, Cheverly, MD.

Suffolk Facility, 5611 Columbia Pike, Alexandria, VA.

Dahlgren Facilities, 17211 Avenue D, Dahlgren, VA.

NPA: Huntsville Rehabilitation Foundation, Huntsville, AL.

Contracting Activity: Dept of Defense, Missile Defense Agency (MDA), Redstone Arsenal, AL.

Service Type/Location: Receptionist and Security Services, Lyng Service Center, USDA NRCS California State Office, 430 G. Street, # 4164, Davis, CA.

NPA: Pacific Coast Community Services, Richmond, CA.

Contracting Activity: Dept of Agriculture, Natural Resources Conservation Service, Soil Conservation Service, Davis, CA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to furnish the product to the Government.

3. There are no known regulatory alternatives which would accomplish the objectives of the Javits-Wagner-O'Day Act (41 U.S.C. 46-48c) in connection with this product proposed for deletion from the Procurement List.

End of Certification

The following product is proposed for deletion from the Procurement List:

Product

NSN: 7530-00-731-5363—Paper, Tabulating Machine.

NPA: Tarrant County Association for the Blind, Fort Worth, TX.

Contracting Activity: GSA/FSS OFC SUP CTR—Paper Products, New York, NY.

Barry S. Lineback,
Director, Business Operations.

[FR Doc. E9-20116 Filed 8-20-09; 8:45 am]

BILLING CODE 6353-01-P